DEPARTMENT OF HEALTH AND HUMAN SERVICES

National Institutes of Health

Proposed Data Collection; Comment Request; NCI Cancer Information Service Demographic/Customer Service Data Collection

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: NCI Cancer Information Service Demographic/Customer Service Data Collection. Type of Information Collection Request: Revision of a currently approved collection. OMB control number 0925-0208, expiration date July 31, 2000. Need and Use of Information Collection: The CIS provides the general public, cancer patients, families, health professionals, and others with the latest information on cancer. Essential to providing the best customer service is the need to collect data about callers and how they found out about the service. This effort involves asking three questions to 100% of five categories of callers for an annual total of approximately 333,620 callers and four questions to 50% of the same five categories of callers for an annual total of approximately 166,810 callers. Frequency of Response: One time. Affected Public: Individuals or households. Type of Respondents: Patients, relatives, friends, and general public. The annual reporting burden is as follows: Estimated Number of Respondents: 333,620 for three questions and 166,810 for four questions; Estimated Number of Responses per Respondent: 1; Average Burden Hours Per Response: .0033 for 3 questions and .0083 for 4 questions; and Estimated Total Annual Burden Hours Requested: 2,479. The annualized cost to respondents is estimated at: $29,748. There are no Capital Costs to report. There are no Operating or Maintenance Costs to report.

Type of respondents | Estimated number of respondents | Estimated number of responses per respondent | Average burden hours per response | Estimated total annual burden hours requested
Individuals or households
—3 questions | 333,620 | 1 | .0033 | 1,094
—4 questions | 166,810 | 1 | .0083 | 1,385
Total |  |  |  | 2,479

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Chris Thomsen, Chief, Cancer Information Service Branch, Office of Cancer Information, Communication, and Education, National Cancer Institute, NIH, Building 31, Room 10A16, 9000 Rockville Pike, Bethesda, MD 20892, or call non-toll-free number (301) 496-5583 ext. 239 or E-mail your request, including your address to: thomsenc@mail.nih.gov

Comments Due Date

Comments regarding this information collection are best assured of having their full effect if received on or before April 7, 2000.

Dated: January 28, 2000.
Reesa Nichols,
OMB Clearance Liaison.

[FR Doc. 00-2629 Filed 2-4-00; 8:45 am]

BILLING CODE 4140-01-M